DEPARTMENT OF HOUSING AND URBAN DEVELOPMENT

[Docket No. FR-5913-N-12]

60-Day Notice of Proposed Information Collection: Pay for Success Pilot Application Requirements

AGENCY: Office of the Assistant Secretary for Housing-Federal Housing Commissioner, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment. The Budget-Neutral Demonstration Program for Energy and Water Conservation Improvements at Multifamily Housing Residential Units (Pay for Success Pilot) authorizes HUD to establish a competitive process for selecting one or more qualified intermediaries who will, per agreements with HUD, be responsible for initiating and managing an energy and water conservation retrofit program. These retrofits are authorized at properties participating in the project-based rental assistance (PBRA) program under section 8 of the United States Housing Act of 1937; supportive housing for the elderly program operating under section 202 of the Housing Act of 1959; and supportive housing for persons with disabilities under section 811(d)(2) of the Cranston-Gonzalez National Affordable Housing Act. The documents that are the subject of this notice are those used by applicants applying to participate in this program.

DATES: Comments Due Date: August 8, 2016.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Mark Kudlowitz, Director, Program Administration Office, Department of Housing and Urban Development, 451 7th Street SW., Washington, DC 20410; email at Mark.A.Kudlowitz@hud.gov or telephone (202) 402-3372. This is not a toll-free number. Persons with hearing or speech impairments may access this number through TTY by calling the toll-free Federal Relay Service at (800) 877-8339. Copies of available documents submitted to OMB may be obtained from Ms. Pollard.

SUPPLEMENTARY INFORMATION: This notice informs the public that HUD is seeking approval from OMB for the information collection described in Section A.

I. Evaluation of Proposed Information Collection

HUD will submit the proposed information collection to OMB for review, as required by the Paperwork Reduction Act of 1995 (44 U.S.C. Chapter 35, as amended). This notice is soliciting comments from members of the public and affected parties concerning the collection of proposed information on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

II. Description of Proposed Information Collection

Title of Information Collection: Budget-Neutral Demonstration Program for Energy and Water Conservation Improvements at Multifamily Housing Residential Units (Pay for Success Pilot).

Description of the need for the information and proposed use: The Pay for Success (PFS) Pilot authorizes HUD to establish a competitive process for selecting one or more qualified intermediaries who will, per agreements with HUD, be responsible for initiating and managing an energy and water conservation retrofit program at select assisted multifamily housing properties. Participation in the program is voluntary. Participating applicants are required to submit application information for the purpose of putting together a proposal for evaluation. Through this application information, HUD evaluates whether applicants have met all of the requirements necessary to apply and be selected to participate in the PFS Pilot.

OMB Approval Number: N/A.

Type of Request: New information collection request.

Form Number: N/A.

Respondents (i.e. affected public): Businesses or other for-profits, nonprofit organizations, and State, Local, or Tribal Government entities.

Estimated Number of Respondents: 15.

Estimated Number of Responses: 15.

Frequency of Response: Once.

Average Hours per Response: 20.

Total Estimated Burden: 300 hours.

HUD encourages interested parties to submit comment in response to these questions.

Authority: Section 3507 of the Paperwork Reduction Act of 1995, 44 U.S.C. Chapter 35.

Dated: June 1, 2016.
Janet M. Golrick,
Associate General Deputy Assistant Secretary for Housing-Associate Deputy Federal Housing Commissioner.

[FR Doc. 2016-13427 Filed 6-6-16; 8:45 am]

BILLING CODE 4210-67-P